NUCLEAR REGULATORY COMMISSION

Notice of Sunshine Act Meetings

Nuclear Regulatory Commission

Date: Weeks of January 15, 22, 29; February 5, 12, 19, 2007.

Place: Commissioners' Conference Room, 11555 Rockville Pike, Rockville, Maryland.

Status: Public and Closed.

Matters to be Considered:

Week of January 15, 2007

There are no meetings scheduled for the Week of January 15, 2007.

Week of January 22, 2007—Tentative

Monday, January 22, 2007

1:25 p.m.

Affirmation Session (Public Meeting) (Tentative).

a. Entergy Nuclear Vermont Yankee, LLC, & Entergy Nuclear Operations, Inc. (Vermont Yankee Nuclear Power Station), LBP-06-20 (9/22/06): Entergy Nuclear Generation Company & Entergy Nuclear Operations, Inc. (Pilgrim Nuclear Power Station), LBP-06-23 (10/16/06) (Tentative)

b. Exelon Generation Company, LLC (Early Site Permit for Clinton ESP) (Tentative)

1:30 p.m.

Discussion of Security Issues (Closed—Ex. 1).

Tuesday, January 23, 2007

1:30 p.m.

Joint Meeting with Federal Energy Regulatory Commission on Grid Reliability (Public Meeting) (Contact: Mike Mayfield, 301-415-0561).

This meeting will be webcast live at the Web address— http://www.nrc.gov.

Week of January 29, 2007—Tentative

Wednesday, January 31, 2007

9:30 a.m.

Discussion of Security Issues (Closed—Ex. 1 & 3). To be held at Department of Homeland Security Headquarters, Washington, DC.

Thursday, February 1, 2007

9:30 a.m.

Discussion of Management Issues (Closed—Ex. 2).

1:30 p.m.

Briefing on Strategic Workforce Planning and Human Capital Initiatives (Public Meeting) (Contact: Mary Ellen Beach, 301-415-6803).

This meeting will be webcast live at the Web address— http://www.nrc.gov.

Week of February 5, 2007—Tentative

There are no meetings scheduled for the Week of February 5, 2007.

Week of February 12, 2007—Tentative

Thursday, February 15, 2007

9:30 a.m.

Briefing on Office of Chief Financial Officer (OCFO) Programs, Performance, and Plans (Public Meeting) (Contact: Edward New, 301-415-5646).

This meeting will be webcast live at the Web address— http://www.nrc.gov.

Week of February 19, 2007—Tentative

There are no meetings scheduled for the Week of February 19, 2007.

* * * * *

*The schedule for Commission meetings is subject to change on short notice. To verify the status of meetings call (recording)—(301) 415-1292. Contact person for more information: Michelle Schroll, (301) 415-1662.

* * * * *

Additional Information: Affirmation of “Entergy Nuclear Vermont Yankee, LLC, & Entergy Nuclear Operations, Inc. (Vermont Yankee Nuclear Power Station), LBP-06-20 (9/22/06): Entergy Nuclear Generation Company & Entergy Nuclear Operations, Inc. (Pilgrim Nuclear Power Station), LBP-06-23 (10/16/06)” tentatively scheduled for Thursday, January 11, 2007, at 1:25 p.m. has been rescheduled tentatively on Monday, January 22, 2007, at 1:25 p.m.

Affirmation of “Final Rulemaking to Revise 10 CFR 73.1, Design Basis Threat (DBT) Requirements” tentatively scheduled on Thursday, January 11, 2007, at 1:25 p.m. was cancelled and will be rescheduled at a later date.

“Periodic Briefing on New Reactor Issues” (Public Meeting) previously scheduled on Thursday, January 11, 2007, at 1:30 p.m. was cancelled and will be rescheduled at a later date.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g., braille, large print), please notify the NRC's Disability Program Coordinator, Deborah Chan, at 301-415-7041, TDD: 301-415-2100, or by e-mail at DLC@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: January 12, 2007.
R. Michelle Schroll,
Office of the Secretary.

[FR Doc. 07-207 Filed 1-16-07; 12:26 pm]

BILLING CODE 7590-01-P